DEPARTMENT OF DEFENSE

Department of the Army

[Docket ID: USA-2008-0043]

Privacy Act of 1974; System of Records

AGENCY: Department of the Army, DoD.

ACTION: Notice To Alter a System of Records.

SUMMARY: The Department of the Army is proposing to alter a system of records in its existing inventory of records systems subject to the Privacy Act of 1974, (5 U.S.C. 552a), as amended.

DATES: The proposed action will be effective on August 28, 2008 unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on July 21, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 22, 2008.
Patricia L. Toppings,
OSD Federal Register Liaison Officer, Department of Defense.

A0715-9 DCS, G-4

System name:

Support Personnel Deployment Records (January 28, 2008, 73 FR 4853).

Changes:

ID number:

Add to entry “DoD”.

System name:

Delete entry and replace with “Synchronized Predeployment and Operational Tracker (SPOT) Records.”

System location:

Delete entry and replace with “U.S. Army Acquisition, Logistics and Technology Enterprise Systems and Services (ALTESS), ATTN: SFAE-PS-ALT-SI, P.O. Box 4, Building 450, RFAAP, Radford, VA 24143-0004.”

Categories of individuals covered by the system:

Delete entry and replace with “Military and civilian employees, dependents, contractors and non-governmental organization personnel, volunteers, partner agencies personnel and members of the public who are supporting planned, ongoing, and historical contingency operations.”

Categories of records in the system:

Delete entry and replace with “Records include an individual profile containing: Full name of the individual; Social Security Number (SSN) or federal/foreign identification number; home, office, and deployed telephone numbers; home address and deployed address; home, office, and deployed e-mail addresses; emergency contact name and telephone numbers; contract number, contract capabilities and contractor organization name, along with employer's contact name, address, and telephone number; next of kin name, phone and address; air travel itineraries and movements in theater of operations; passport and/or visa number; common access or identification card user identification; clearance level; trip information (e.g., destinations and reservation information); travel authorization documentation (e.g., Government orders or letters of authorization); trip dates; predeployment processing information including training completed certifications, predeployment medical and dental processing completion, blood type; location and duty station; and other official deployment-related information. Records reflecting work experience, educational level achieved, and specialized education or training obtained outside of Federal service.

Records reflecting Federal service and documenting work experience and specialized education received while employed. Such records contain information about past and present positions held; grades, salaries, duty station locations; and notices of all personnel actions, such as appointments, transfers, reassignments, details, promotions, demotions, reductions-in-force, resignations, separations, suspensions, office approval of disability retirement applications, retirement, and removals.”

Authority:

Delete entry and replace with “10 U.S.C. 3013; National Defense Appropriations Acts (NDAA) 2008, Section 861; Secretary of Defense; DoD Instruction 3020.41, Contractor Personnel Authorized to Accompany the U.S. Armed Forces; Army Regulation 715-9, Contractors Accompanying the Force and E.O. 9397.”

Purpose(s):

Delete entry and replace with “Information will be used to plan, manage, account for, monitor and report on contracts, their capabilities, contractors and other individuals supporting the Federal Government (including civilian and military) during planning and operation of any contingency activity. This information will be used to analyze and correlate relationships between requirements and planned actions. Information will also be used to support Department of Defense, Department of State, other federal agencies and the private sector.”

Routine uses of records maintained in the system, including categories of users and the purposes of such uses:

Add to entry “To Federal, State, and local agencies, federal contractors and applicable civilian organizations to account for personnel located in a contingency area to determine status of processing and deployment documentation, current and historical locations, organizations they work for and contact information.”

Safeguards:

Delete entry and replace with “Computerized records are maintained in a controlled area accessible only to authorized personnel. Entry to these areas is restricted to those personnel with a valid requirement and authorization to enter. Physical entry is restricted by the use of lock, guards, and administrative procedures. Access to any specific record is based on the need-to-know and the specific level of authorization granted to the user. Physical and electronic access is restricted to designated individuals having a need-to-know in the performance of official duties. Access to personal information is further restricted by the use of login/password authorization. Information is accessible only by authorized personnel with appropriate clearance/access in the performance of their duties.”

System manager(s) and address:

Delete entry and replace with “Commander, U.S. Army Materiel Command, Plans & Operations Division, AMCOPS-CP, 9301 Chapek Road, Ft. Belvoir, VA 22060.”

Notification procedure:

Delete entry and replace with “Individuals seeking to determine whether information about themselves is contained in this system should address written inquiries to Commander, U.S. Army Materiel Command, Plans & Operations Division, AMCOPS-CP, 9301 Chapek Road, Ft. Belvoir, VA 22060.

Request should contain individual's full name, Social Security Number (SSN), current address, telephone number, when and where the accident occurred, type of equipment involved in the accident, and signature.”

Record access procedures:

Delete entry and replace with “Individuals seeking access to information about themselves contained in this system should address written inquiries to their employer or to Commander, U.S. Army Materiel Command, Plans & Operations Division, 9301 Chapek Road, Ft. Belvoir, VA 22060.

Requests should contain the individual's full name, social security number (SSN), current address, telephone number, when and where they were assigned during the contingency and their signature.”

* * * * *

Record source categories:

Delete entry and replace with “Records and reports of contingency contracts, contingency support, contractors authorized to accompany the U.S. Armed Forces, and known locations in a Joint Operational Area.”

* * * * *

A0715-9 DCS, G-4 DoD

System name:

Synchronized Predeployment and Operational Tracker (SPOT) Records.

System location:

U.S. Army Acquisition, Logistics and Technology Enterprise Systems and Services (ALTESS), ATTN: SFAE-PS-ALT-SI, P.O. Box 4, Building 450, RFAAP, Radford, VA 24143-0004 or similar certified Defense/Federal Network Enclave facility.

Categories of individuals covered by the system:

Military and civilian employees, dependents, contractors and non-governmental organization personnel, volunteers, partner agencies personnel and members of the public who are supporting planned, ongoing, and historical contingency operations.

Categories of records in the system:

Records include an individual profile containing: Full name of the individual; Social Security Number or federal/foreign identification number; home, office, and deployed telephone numbers; home address and deployed address; home, office, and deployed e-mail addresses; emergency contact name and telephone numbers; contract number, contract capabilities and contractor organization name, along with employer's contact name, address, and telephone number; next of kin name, phone and address; air travel itineraries and movements in theater of operations; passport and/or visa; common access or identification card user identification; clearance level; trip information (e.g., destinations, reservation information); travel authorization documentation (e.g., Government orders or letters of authorization); trip dates; predeployment processing information including training completed certifications, medical and dental screenings, blood type; location and duty station; and other official deployment-related information.

Records reflecting work experience, educational level achieved, and specialized education or training obtained outside of Federal service.

Records reflecting Federal service and documenting work experience and specialized education received while employed. Such records contain information about past and present positions held; grades, salaries, duty station locations; and notices of all personnel actions, such as appointments, transfers, reassignments, details, promotions, demotions, reductions-in-force, resignations, separations, suspensions, office approval of disability retirement applications, retirement, and removals.

Authority for maintenance of the system:

10 U.S.C. 3013; National Defense Appropriations Acts (NDAA) 2008, Section 861; Secretary of Defense; DoD Instruction 3020.41, Contractor Personnel Authorized to Accompany the U.S. Armed Forces; Army Regulation 715-9, Contractors Accompanying the Force and E.O. 9397.

Purpose(s):

Information will be used to plan, manage, account for, monitor and report on contracts, their capabilities, contractors and other individuals supporting the Federal Government (including civilian and military) during planning and operation of any contingency activity. This information will be used to analyze and correlate relationships between requirements and planned actions. Information will also be used to support Department of Defense, Department of State, other federal agencies and the private sector.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, State, and local agencies, federal contractors and applicable civilian organizations to account for personnel located in a contingency area to determine status of processing and deployment documentation, current and historical locations, organizations they work for and contact information.

The DoD ‘Blanket Routine Uses’ set forth at the beginning of the Army's compilation of systems of records notices also apply to this system.

Policies and practices for storing, retrieving, accessing, retaining, and disposing of records in the system:

Storage:

Electronic storage media.

Retrievability:

Name and Social Security Number (SSN).

Safeguards:

Computerized records are maintained in a controlled area accessible only to authorized personnel. Entry to these areas is restricted to those personnel with a valid requirement and authorization to enter. Physical entry is restricted by the use of lock, guards, and administrative procedures. Access to any specific record is based on the need-to-know and the specific level of authorization granted to the user. Physical and electronic access is restricted to designated individuals having a need-to-know in the performance of official duties. Access to personal information is further restricted by the use of login/password authorization. Information is accessible only by authorized personnel with appropriate clearance/access in the performance of their duties. Records retrieved from SPOT only portray the last four digits of the Social Security Number (SSN).

Retention and disposal:

Permanent. Keep until individual's final deployment is terminated and then retire to the Army Electronic Archives (AEA). The AEA will transfer to the National Archives when the record is 25 years old.

System manager(s) and address:

Commander, U.S. Army Materiel Command, Plans & Operations Division, AMCOPS-CP, 9301 Chapek Road, Ft. Belvoir, VA 22060.

Notification procedure:

Individuals seeking to determine whether information about themselves is contained in this system should address written inquiries to the system manager.

Requests should contain the individual's full name, social security number (SSN), current address, telephone number, when and where they were assigned during the contingency and signature.

Record access procedures:

Individuals seeking access to information about themselves contained in this system should address written inquiries to their employer or to the System Manager.

Requests should contain the individual's full name, Social Security Number (SSN), current address, telephone number, when and where they were assigned during the contingency and signature.

Contesting record procedures:

The Army's rules for accessing records, and for contesting contents and appealing initial agency determinations are contained in Army Regulation 340-21; 32 CFR part 505.

Record source categories:

Records and reports of contingency contracts, contingency support, contractors authorized to accompany the U.S. Armed Forces, and known locations in a Joint Operational Area.

Exemptions claimed for the system:

None.

[FR Doc. E8-17320 Filed 7-28-08; 8:45 am]

BILLING CODE 5001-06-P